NUCLEAR REGULATORY COMMISSION

[Docket No. 72-1051; NRC-2018-0052]

Holtec International HI-STORE Consolidated Interim Storage Facility Project

AGENCY: Nuclear Regulatory Commission.

ACTION: Environmental impact statement; public scoping meetings.

SUMMARY: On March 30, 2018, the U.S. Nuclear Regulatory Commission (NRC) published in the Federal Register a notice of its intent to prepare an environmental impact statement, conduct scoping, and request comments for Holtec International's (Holtec) application for the HI-STORE Combined Interim Storage Facility (CISF). The public scoping comment period closes on May 29, 2018. The NRC is announcing public scoping meetings and an open house schedule. The public scoping meetings will allow interested members of the public to develop and submit their comments.

DATES: April 6, 2018.

ADDRESSES: Please refer to Docket ID NRC-2018-0052 when contacting the NRC about the availability of information regarding this document. You may obtain publicly-available information related to this document using any of the following methods:

• Federal Rulemaking website: Go to http://www.regulations.gov and search for Docket ID NRC-2018-0052. Address questions about NRC dockets to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

• Project web page: Information related to the Holtec HI-STORE CISF project can be accessed on the NRC's Holtec HI-STORE CISF web page at https://www.nrc.gov/waste/spent-fuel-storage/cis/holtec-international.html.

• Public Libraries: A copy of the application's Environmental Report can be accessed at the following public libraries: Carlsbad Public Library, 101 S. Halagueno Street, Carlsbad, NM 88220; Hobbs Public Library, 509 N Shipp St., Hobbs, NM 88240; or Roswell Public Library, 301 N. Pennsylvania, Roswell, NM 88201.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

On March 30, 2018, the NRC published in the Federal Register (83 FR 13802), a notice of its intent to prepare an EIS on Holtec's proposed CISF for spent nuclear fuel and requested public comments on the scope of the EIS. The NRC is announcing that staff will hold three public scoping meetings and one open house. The public scoping meetings will be held in Rockville, Maryland; Carlsbad, New Mexico; and Hobbs, New Mexico. The dates and times for the public meetings and open house are provided below:

Meeting/Open House | Date | Time | Location
Public Scoping Meeting and Webinar | April 25, 2018 | 7:00 p.m.-9:00 p.m. (EDT) | Rockville, Maryland, NRC Headquarters, Address: 11555 Rockville Pike, Rockville, MD 20852
Open House | April 30, 2018 | 4:00 p.m.-7:00 p.m. (MDT) | Roswell, New Mexico, Address: Eastern New Mexico University—Roswell, Campus Union Building, Multi-Purpose Room 110, 48 University Blvd., Roswell, NM 88130
Public Scoping Meeting | May 1, 2018 | 7:00 p.m.-10:00 p.m. (MDT) | Hobbs, New Mexico, Address: Lea County Event Center, 5101 N. Lovington Highway, Hobbs, NM 88240
Public Scoping Meeting | May 3, 2018 | 7:00 p.m.-10:00 p.m. (MDT) | Carlsbad, New Mexico, Address: Eddy County Fire Service, 1400 Commerce Street, Carlsbad, NM 88220.

Persons interested in attending these meeting should check the NRC's Public Meeting Schedule web page at https://www.nrc.gov/pmns/mtg for additional information, agendas for the meetings, and access information for the webinar. For the meeting in Rockville, Maryland, the NRC will transmit the public meeting via webinar and provide a telephone bridgeline for members of the public who cannot attend the meeting in person.

Dated at Rockville, Maryland, on April 2, 2018.
For the Nuclear Regulatory Commission.
Craig G. Erlanger,
Director, Division of Fuel Cycle Safety, Safeguards, and Environmental Review, Office of Nuclear Material Safety and Safeguards.

[FR Doc. 2018-07006 Filed 4-5-18; 8:45 am]

BILLING CODE 7509-01-P